FEDERAL EMERGENCY MANAGEMENT AGENCY

Open Meeting, Board of Visitors for the National Fire Academy

AGENCY: Federal Emergency Management Agency (FEMA).

ACTION: Notice of open meeting.

SUMMARY: In accordance with section 10(a)(2) of the Federal Advisory Committee Act, 5 U.S.C. App. 2, FEMA announces the following committee meeting:

Name: Board of Visitors (BOV) for the National Fire Academy.

Dates of Meeting: September 5, 2002.

Place: Building H, Room 300, National Emergency Training Center, Emmitsburg, Maryland.

Time: September 5, 2002, 8:30 a.m.-12 noon (Open Meeting).

Proposed Agenda: September 5, 2002, Brief BOV on responsibilities as “Special Government Employees,” review BOV Charter, identify secretariat for the BOV and review responsibilities, identify Designated Federal Official or designee and review responsibilities, elect BOV Chair and Vice Chair.

SUPPLEMENTARY INFORMATION: The meeting will be open to the public with seating available on a first-come, first-served basis. Members of the general public who plan to attend the meeting should contact the Office of the Superintendent, National Fire Academy, U.S. Fire Administration, 16825 South Seton Avenue, Emmitsburg, MD 21727, (301) 447-1117, on or before August 30, 2002.

Minutes of the meeting will be prepared and will be available for public viewing in the Office of the U.S. Fire Administrator, U.S. Fire Administration, Federal Emergency Management Agency, Emmitsburg, Maryland 21727. Copies of the minutes will be available upon request within 60 days after the meeting.

Dated: August 2, 2002.
R. David Paulison,
U.S. Fire Administrator.

[FR Doc. 02-20302 Filed 8-9-02; 8:45 am]

BILLING CODE 6718-01-P